DEPARTMENT OF DEFENSE

Office of the Secretary

Privacy Act of 1974; System of Records

AGENCY: Department of Defense (DoD).

ACTION: Rescindment of multiple system of records notices.

SUMMARY: In accordance with the Privacy Act of 1974, the Department of Defense (DoD) is providing notification of the rescindment of 52 Privacy Act system of records notices (SORNs). A description of these systems can be found in the table below. Additionally, the DoD is issuing a Direct Final Rule, published elsewhere in today's issue of the Federal Register, to amend its regulation and remove the Privacy Act exemption rules for five SORNs [items jj) through nn), below] rescinded in this notice.

DATES: The rescindment of these SORNs are effective June 27, 2022.

FOR FURTHER INFORMATION CONTACT: Ms. Rahwa Keleta, Privacy and Civil Liberties Division, Directorate for Privacy, Civil Liberties and Freedom of Information, Office of the Assistant to the Secretary of Defense for Privacy, Civil Liberties, and Transparency, Department of Defense, 4800 Mark Center Drive, Mailbox #24, Suite 08D09, Alexandria, VA 22350-1700, OSD.DPCLTD@mail.mil, (703) 571-0070.

SUPPLEMENTARY INFORMATION:

I. Background

Pursuant to the provisions of the Privacy Act of 1974, 5 U.S.C. 552a, and as part of its ongoing integration and management efforts, the DoD is removing 52 Privacy Act systems of records notices from its inventory. Upon review of its inventory, DoD determined it no longer needs or uses these system of records and is retiring them as follows:

Thirty-five SORNs [items a) through z), and aa) through ii)] listed in the table below are being rescinded because the records are now maintained as part of the DoD-wide system of records titled DoD-0005, Defense Training Records, published December 28, 2020; 85 FR 84316.

Six SORNs [items jj) through oo)] are rescinded because the records are now maintained as part of the system of records titled DUSDI 02-DoD, Personnel Vetting Records System, published October 17, 2018, 83 FR 52420.

Four SORNs [items pp) through ss] are being rescinded because the records are now part of the DoD-wide system of records titled DoD-0007, Reasonable Accommodation and Assistive Technology Records, published July 22, 2021, 86 FR 38692.

Three SORNs [items tt) through vv] are being rescinded because the records are now covered under the DoD-wide system of records titled DoD-0003 Mobilization Deployment Management Information System (MDMIS) published July 8, 2020; 85 FR 41007.

The following individual SORNs [items ww) through zz)] are being rescinded for the reasons stated in each paragraph below.

The Department of the Navy system of records N03501-3, Readiness and Cost Reporting Program (RCRP) Records (July 22, 2010, 75 FR 42719), is being rescinded because these records are now maintained as part of the DoD-wide system of records titled DoD 0004, Defense Repository for Common Enterprise Data (DRCED), which covers records maintained to support the DoD's defense business enterprise by using technology for readiness reporting and to synchronize and normalize data to improve affordability, performance, reporting, and mission readiness.

The DCAA system of records RDCAA 240.5, Standards of Conduct, Conflict of Interest (January 3, 2011, 76 FR 114), is being rescinded because these records are now maintained as a part of the government-wide system of records titled OGE/GOVT-1, Executive Branch Personnel Public Financial Disclosure Reports and Other Name-Retrieved Ethics Program Records, which covers records collected and maintained in accordance with the requirements of the Ethics in Government Act of 1978 and the Ethics Reform Act of 1989, as amended, and Executive Order 12674, as modified, and the Office of Government Ethics (OGE) and agency regulations thereunder.

The DCAA system of records RDCAA 240.3, Legal Opinions (February 5, 2015, 80 FR 6501; January 3, 2011, 76 FR 115), is being rescinded because these records are now maintained as a part of the government-wide system of records titled OPM/GOVT-1, General Personnel Records, which covers general personnel records of current and former Federal employees as defined in 5 U.S.C. 2105, or OPM/GOVT-3, Records of Adverse Actions, Performance Based Reduction in Grade and Removal Actions and Termination of Probationers, which covers records that result from the proposal, processing and documentation of these actions taken either by the OPM or by agencies against employees in accordance with OPM regulations.

The OSD system of records DMDC 08, Survey and Census Data Base (October 2, 2007, 72 FR 56062), is being rescinded because these records are now maintained as a part of the DHRA 03, Survey Data and Assessment system of records, which covers data about individuals who completed DoD-sponsored survey questionnaires or who have participated in DoD-sponsored focus groups for the purpose of assessing characteristics, attitudes, opinions, and experiences of DoD personnel, households, and others, and to support manpower research.

DoD SORNs have been published in the Federal Register and are available from the address in FOR FURTHER INFORMATION CONTACT or at the Privacy, Civil Liberties, and FOIA Directorate website at https://dpcld.defense.gov.

II. Privacy Act

Under the Privacy Act, a “system of records” is a group of records under the control of an agency from which information is retrieved by the name of an individual or by some identifying number, symbol, or other identifying particular assigned to the individual. In the Privacy Act, an individual is defined as a U.S. citizen or lawful permanent resident.

In accordance with 5 U.S.C. 552a(r) and Office of Management and Budget (OMB) Circular No. A-108, DoD has provided a report of this SORN bulk rescindment to OMB and Congress.

Dated: June 21, 2022.
Aaron T. Siegel,
Alternate OSD Federal Register Liaison Officer, Department of Defense.

System name | No. | Descriptions | History
(a) Information Officer Short Course Eligibility File | F035 SAFPA D | was established to determine eligibility of Public Affairs Officers to attend future Air Force Short Courses in Communication. | June 11, 1997, 62 FR 31793; February 22, 1993, 58 FR 10403.
(b) Mobilization Augmentee Training Folders | F035 SAFPA B | was established to serve as a training record for participation and assignment with the Reserve Components and used by supervisory personnel to determine eligibility for promotion or reassignment. | June 11, 1997, 62 FR 31793; February 22, 1993, 58 FR 10370.
(c) Basic Training Management System | F036 AETC Z | was established to evaluate and record performance/progress of the students and to determine and generate statistics to measure the health and effectiveness of the Basic Military Training Program. | November 12, 2008, 73 FR 66877.
(d) Education and Training Management System | F036 AFMC D | was established to collect education and training information that supported the needs of the education and training communities located at Headquarters Air Force Materiel Command and subordinate units. | April 07, 2016, 81 FR 20369.
(e) Air Force Inactive Duty Training Records | F036 AFRC A | was established to manage Inactive Duty Training (IDT) periods such as Unit Training Assembly, Readiness Management Period, Points Only, and Funeral Honor Duty and provided Air Force Reserve Commanders on-site IDT participation information. | January 23, 2009; 74 FR 4144.
(f) Reserve Judge Advocate Training Report | F051 AFRES A | was established to provide Air Force Reserve Staff Judge Advocate Training Files on all Reserve attorneys in the JAG Corps. | June 11, 1997, 62 FR 31793; February 22, 1993, 58 FR 10427.
(g) Flying Training Records | F036 AETC S | was established to determine flying training potential, document, and record performance, and manage training. | July 2, 2009, 74 FR 31718.
(h) Graduate Training Integration Management System | F036 AF AETC B | was established to manage all aspects of Air Force graduate flight training. | June 30, 2009, 74 FR 31261.
(i) Officer Training School Flight Training Information System | F036 AETC K | was established to monitor the progress of an individual toward completion of the Officer Training School Flight Training program. | July 26, 2004; 69 FR 44515.
(j) Space Command Operations Training | F036 AFSPC A | was established to maintain personnel qualifications, capabilities and historical data for analysis by unit and operations support squadrons to determine individual overall job qualifications. | March 26, 2010; 75 FR 14580.
(k) Training Integration Management System (TIMS) | F036 AETC Y | was established to maintain personnel qualifications, capabilities and historical data for analysis by unit and operations support squadrons to determine individual overall job qualifications. | November 12, 2008; 73 FR 66873.
(l) Training Scheduling System Records | F036 AFMC G | was established for scheduling training, maintaining work assignments according to employee certifications, and matching employees with the correct training records. | December 30, 2008; 73 FR 63143.
(m) United States Air Force (USAF) Airman Retraining Program | F036 AFPC Y | was established to evaluate decisions on retraining applications. | December 31, 2012; 77 FR 77049; June 11, 1997, 62 FR 31793; February 23, 1993, 58 FR 10326.
(n) Air Education Training Command Financial Management Records | F065 AETC A | was established to support the Air Education and Training Command's Temporary Duty-To-School Management Information System and the Budget Analysis Tools System. | December 30, 2008; 73 FR 79845.
(o) Air Force Aerospace Physiology Training Program | F044 AF SG H | was established to authenticate training, location and trainee academic grades for courses related to Aerospace Physiology Training Programs. | May 20, 2003; 68 FR 27540.
(p) Long-Term Civilian Training Student Control Files | A0621-1 DASG | was established for the initiation and maintenance of contracts between the Army and civilian academic institutions for the purpose of sending Army Medical Department officers for long-term civilian training on a partially or fully funded program. | June 15, 2016, 81 FR 39030; April 4, 2003, 68 FR 16484; July 27, 1993, 58 FR 40115; February 22, 1993, 58 FR 10159.
(q) Resident Individual Training Management System (RTIMS) | A0350-1a TRADOC | was established to automate processes associated with the scheduling, management, testing, and tracking of resident student training. | December 14, 2010, 75 FR 77584.
(r) Digital Training Management System | A0350-1c TRADOC | was established to support the on-going digital training management task. | January 11, 2011; 76 FR 1606.
(s) ATLAS PRO Learning Suite | A0350-1d | was established to support student online certification and career management. | August 3, 2011; 76 FR 46767.
(t) Standardized Student Records System | A0350-20a TRADOC | was established to obtain training, education, experiential learning, personal, and biographical data to present a comprehensive and personalized view of the student record, course enrollment, course completion, official grade transcript, statistical studies to improve training and testing methods, and course catalog information. | October 11, 2011; 76 FR 62788; October 5, 2011, 76 FR 61680.
(u) U.S. Army Medical Department School and Academy of Health Sciences Academic Records | A0351a DASG | was established to determine eligibility for enrollment/attendance, monitor student progress, record accomplishments, and serve as record of courses. | April 4, 2003, 68 FR 16484.
(v) Army Training Information Architecture -Learning Management System (ATIA-LMS) | A0351b TRADOC DoD | was established to record lessons and/or exam grades, maintain student academic status, course and sub course descriptions, produce course completion certificates and reflect credit hours earned, and produce management summary reports. | June 16, 2011,76 FR 35197.
(w) Enrollment, Registration and Course Completion Records | V7-01 | was established for the DSS Training Office or Polygraph Institute personnel to prepare class rosters and provide basic administrative information on attendees. | August 17, 1999, 64 FR 44704, 44713.
(x) Defense Equal Opportunity Management Institute Integrated Database | DPR 48 | was established to manage administrative and academic functions related to student registration and courses attempted and completed. | August 10, 2016; 81 FR 52835.
(y) Advanced Global Intelligence Learning Environment (AGILE) | LDIA 05-0003 | was established to ensure federal employees, contractors and active duty service members attain the knowledge and skills necessary to achieve Agency and Intelligence Community missions through a web-based training environment and to link such training to the user's personnel records. | May 18, 2012, 77 FR 29615; April 12, 2012, 77 FR 21974; March 24, 2008, 73 FR 15496.
(z) Learning Management System (LMS) | HDTRA 022 | was established to manage and administer training and development programs, to identify individual training needs, to screen and select candidates for training, and for reporting, forecasting, tracking, monitoring, and assessment purposes. | September 18, 2012; 77 FR 57561; December 18, 2007, 72 FR 71663.
(aa) Student Records | HDTRA 014 | was established to determine applicant eligibility, as a record of attendance and training, completion or elimination, as a locator, and a source of statistical information. | September 19, 2012, 77 FR 58105; May 9, 2007, 72 FR 26343.
(bb) Drill Instructor Evacuation Files System | MMN00050 | was established to provide a record of training and quality of performance of Marine Corps personnel assigned as drill instructors. | February 22, 1993; 58 FR 10630, 10685.
(cc) Navy Training Management and Planning System (NTMPS) | NM01500-10 | was established to maintain a listing of training, education, and qualifications for use by Manpower, Personnel, Training and Education managers. | June 28, 2012; 77 FR 38608; August 24, 2005, 70 FR 49595.
(dd) Aviation Training Jacket | N01542-1 | was established to maintain an up-to-date student flight record and to evaluate the student's individual training progress and qualifications, including aircraft, medical and physiological qualifications. | March 18, 1997, 62 FR 12806.
(ee) Advanced Skills Management (ASM) System Records | NM01500-3 | was established to maintain records concerning training, education, and qualifications of Navy and Marine Corps military, government and contractor personnel for use by Manpower, Personnel and Training managers. | November 12, 2008, 73 FR 66883.
(ff) Integrated Learning Environment (ILE) Classes | NM01500-9 | was established to identify individuals who enroll and take computerized training courses offered through the Navy's Integrated Learning Environment (ILE). | November 12, 2008, 73 FR 66883.
(gg) Department of Defense Voluntary Education System (DoDVES) | NM01560-2 | was established to maintain educational records and track educational costs of those current and former service members who participate in voluntary educational programs to current and former military service members, including the Defense Activity for Non-Traditional Education Support program, assist military personnel in making successful transitions to second careers in teaching, provide referral assistance and placement services to departing, qualified, military personnel for schools serving low-income families, provide information to the Defense Finance and Accounting Service (DFAS) and to local DoD fiscal and accounting personnel for the purpose of financial management and funds disbursement; and promote partnerships between civilian and military communities through agreements with commercial testing agencies, colleges, universities, and educational associations. | December 11, 2006, 71 FR 71538.
(hh) Strategic Programs (SP) 205 Training Records | N01000-6 | was established to provide support and track the training progress of naval personnel (commissioned officers and enlisted) who manage, operate, and maintain Strategic Weapons System (SWS) and Attack Weapon System (AWS). | October 30, 2015, 80 FR 66889.
(ii) iCompass, Learning Management System (LMS) | DWHS P50 | was established to manage and administer a Learning Management System (LMS) for training and development programs, to identify individual training needs, and for the purpose of reporting, tracking, assessing and monitoring training events, and DoD FM certifications. | November 05, 2015, 80 FR 68518; July 23, 2013, 78 FR 44100.
(jj) Sensitive Compartmented Information (SCI) Personnel | F031 497IG A | was established to recommend/determine eligibility for access to SCI and to answer official inquiries involving an individual's eligibility/noneligibilty for access to SCI. | June 11, 1997, 62 FR 31793; February 22, 1993, 58 FR 10503.
(kk) Special Security Case Files | F031 497IG B | was established to evaluate the security acceptability of Air Force military and civilian and contractor personnel, applicants, enlistees and nominees for appointment, assignment or retention in sensitive positions with access to classified defense information or to restricted areas and locations in the interest of national security. | June 11, 1997, 62 FR 3193; February 22, 1993, 58 FR 10505.
(ll) Special Security Files | F031 AF SP N | was established to maintain temporary records of actions taken on cases where the individual's security clearance status may be affected. | June 11, 1997, 62 FR 3193; February 22, 1993, 58 FR 10503.
(mm) Personnel Security Operations Files | DWHS P28 | was established to maintain security clearance and authorized access information. | January 21, 2016, 81 FR 3395; August 17, 2001.
(nn) Personnel Security, Suitability, and Homeland Security Presidential Directive 12 (HSPD-12) Adjudications | DWHS P29 | was established to adjudicate personnel security investigations (initial, periodic and continuous) and incidents resulting in the issuance, denial, suspension or revocation of an individual's personnel security eligibility; to adjudicate favorable suitability and HSPD-12 determinations; and to determine appeals of personnel security eligibility denials and revocations. | January 21, 2016, 81 FR 3395; August 17, 2001.
(oo) The Enhanced Access Management System (TEAMS) | RDCAA 152.1 | was established to provide the DCAA Security Office with a ready reference of security information on DCAA personnel and to provide data to other offices as appropriate. | March 5, 2013, 78 FR 14282; April 29, 2004, 69 FR 23497.
(pp) Computer/Electronic Accommodations Program (CAP) | DHRA 15 | was established to document and track provided computer/electronic accommodations and perform operational duties to accomplish mission objectives. | September 23, 2020, 85 FR 59762.
(qq) Reasonable Accommodation Request | S330-50 | was established for the purpose of considering, deciding, implementing requests for reasonable accommodation made by employees and applicants with disabilities and to document and track such requests and action taken. | November 12, 2008, 73 FR 66863.
(rr) Reasonable Accommodation Program Records | DWHS P49 | was established to document requests for reasonable accommodation(s) (regardless of type of accommodation) and the outcome of such requests for employees of Washington Headquarters Services/Human Resources Directorate serviced components with known physical and mental impairments and applicants for employment with Washington Headquarters Services/Human Resources Directorate serviced components. | August 22, 2014, 79 FR 49763; December 9, 2011, 76 FR 76956.
(ss) Reasonable Accommodation Program | HDTRA 023 | was established to provide reasonable accommodation(s) for individuals with known physical and mental impairments who have applied for employment or are employees of the DTRA. | September 19, 2012, 77 FR 58105; July 9, 2007, 72 FR 37201.
(tt) Deployment Management Records | LDIA 06-0003 | was established to plan and manage support personnel who deploy in support of ongoing contingency operations for DIA missions. | March 26, 2010, 75 FR 14579.
(uu) Navy Mobilization Processing System | N01070-13 | was established to provide end-to-end command visibility and control of integrated augmentation processes and automated workflow, for requesting manpower requirements, approving requirements, sourcing requirements, and writing orders for requirements, tracking, accounting, data collection, and coordination during activation/deactivation. | January 10, 2014, 79 FR 1844; April 11, 2007, 72 FR 18215.
(vv) Medical Readiness Reporting System (MRRS) | NM06150-6 | was established to track medical readiness to ensure individuals are medically eligible to be deployed and to track labs, exams, physicals, and immunization that impact medical readiness. | August 23, 2013, 78 FR 52518; January 28, 2013, 78 FR 5792; May 5, 2006, 71 FR 26481.
(ww) Readiness and Cost Reporting Program (RCRP) Records | N03501-3 | was established to provide a standardized, enterprise-wide capability for the Navy Expeditionary Combat Command operating forces to measure, display and report the readiness status of personnel, equipment supply, training and ordnance resources and meet Defense Readiness Reporting System-Navy requirements. | July 22, 2010, 75 FR 42719.
(xx) Standards of Conduct, Conflict of Interest | RDCAA 240.5 | was established to provide a historical reference file of cases that are of precedential value to ensure equality of treatment of individuals in like circumstances. | January 3, 2011, 76 FR 114.
(yy) Legal Opinions | RDCAA 240.3 | was established to maintain a historical reference for matters of legal precedence within DCAA to ensure consistency of action and the legal sufficiency of personnel actions. | February 5, 2015, 80 FR 6501; January 3, 2011, 76 FR 115.
(zz) Survey and Census Data Base | DMDC 08 | was established to count DoD personnel and beneficiaries for evacuation planning, apportionment when directed by oversight authority and for other policy planning purposes, and to obtain characteristic information on DoD personnel and households to support manpower and benefits research; to sample attitudes and/or discern perceptions of social problems observed by DoD personnel and to support other manpower research activities; to sample attitudes toward enlistment in and determine reasons for enlistment decisions; and to support manpower research sponsored by the Department of Defense and the military services. | October 2, 2007, 72 FR 56062.

[FR Doc. 2022-13666 Filed 6-24-22; 8:45 am]

BILLING CODE 5001-06-P